DEPARTMENT OF COMMERCE

National Oceanic and Atmospheric Administration

Hydrographic Services Review Panel

AGENCY: National Ocean Service, National Oceanic and Atmospheric Administration (NOAA), Department of Commerce (DOC).

ACTION: Solicitation of nominations for NOAA's Hydrographic Services Review Panel Federal Advisory Committee.

SUMMARY: NOAA is seeking nominations for members to serve on the Hydrographic Services Review Panel (HSRP) Federal Advisory Committee. Such nominations are due by April 28, 2023.

DATES: Nominations for members to serve on the HSRP Federal Advisory Committee must be submitted by April 28, 2023, and will be kept on file to be used for future HSRP vacancies. NOAA anticipates there will be five vacancies starting on January 1, 2024, each with a four-year term. Current members who may be eligible for a second term in 2024 must reapply. HSRP maintains an active pool of candidates and advertises once a year in accordance with the Hydrographic Services Improvement Act (HSIA) requirement regarding membership solicitation.

ADDRESSES: Nominations will be accepted by email and should be sent to three, separate email addresses: Hydroservices.panel@noaa.gov, Melanie.Colantuno@noaa.gov, and Lynne.Mersfelder@noaa.gov. You will receive a confirmation response.

FOR FURTHER INFORMATION CONTACT: Lynne Mersfelder-Lewis, NOAA HSRP program manager, email Lynne.Mersfelder@noaa.gov or phone: 240-691-6106.

SUPPLEMENTARY INFORMATION: In accordance with the HSIA, as amended (33 U.S.C. 892 et seq.), the NOAA Administrator is required to solicit nominations for membership once each year for the HSRP (33 U.S.C. 892c). The HSRP, a Federal Advisory Committee, advises the NOAA Administrator on matters related to the responsibilities and authorities set forth in section 303 of the HSIA (33 U.S.C. 892a), and such other appropriate matters as the NOAA Administrator refers to the HSRP for review and advice. Those responsibilities and authorities include, but are not limited to: acquiring and disseminating hydrographic data and providing hydrographic services, as those terms are defined in the HSIA; promulgating standards for hydrographic data and services; ensuring comprehensive geographic coverage of hydrographic services; and testing, developing, and operating vessels, equipment, and technologies necessary to ensure safe navigation and maintain operational expertise in hydrographic data acquisition and hydrographic services. The HSRP advises the NOAA Administrator regarding “charts and related information for the safe navigation of marine and air commerce, and to provide basic data for engineering and scientific purposes and for other commercial and industrial needs,” as is set forth in the Coast and Geodetic Survey Act of 1947, as amended (33 U.S.C. 883a).

As the HSIA states, “the voting members of the [HSRP] shall be individuals who, by reason of knowledge, experience, or training, are especially qualified in 1 or more of the disciplines and fields relating to hydrographic data and hydrographic services, marine transportation, port administration, vessel pilotage, coastal and fishery management, and other disciplines as determined appropriate by the Administrator.” (33 U.S.C. 892c.). The NOAA Administrator seeks individuals with expertise in hydrographic and marine navigation and technology, port administration, marine shipping or other intermodal transportation industries, cartography and geographic information systems, geodesy, physical oceanography, coastal resource management, including coastal preparedness and emergency response, and other related fields.

In accordance with applicable DOC guidance, NOAA seeks a balanced membership and members are selected on a standardized basis. Subject matter expertise, with subjects as specified in the HSIA, is the primary criteria considered in the evaluation process. Professional sector representation (academia, industry, research, scientific institution, state and local government, tribal interests, consultant, non-governmental organization, etc.), geographic expertise, experience working productively with committees and working groups, and leadership with navigation, observations, and positioning are other criteria that will be considered. The diverse membership of the HSRP ensures expertise reflecting the full breadth of the HSRP's responsibilities. Where possible, NOAA will also consider the ethnic, racial, and gender diversity of the United States. NOAA is an equal opportunity employer.

Nominees are required to submit four items, including a cover letter that responds to the five short response questions listed below. The entire nomination package should include all components, be submitted in Microsoft Word and PDF, and be no longer than eight pages. The four required items are—

1. A cover letter that responds to the Five Short Response Questions listed below and serves as a statement of interest to serve on the HSRP. Please be sure to highlight the nominee's specific area(s) of expertise relevant to the purpose of the HSRP from the list in this Federal Register document.

2. A short biography of 300-400 words and a photo.

3. A resume of no more than 2-3 pages.

4. The nominee's full work and home contact information including: full name, work title, institutional affiliation, work and home mailing addresses, email address(es), phone number(s), and fax number. Please note preferred email, phone number and mailing address.

Five Short Response Questions for the Cover Letter:

(1) List your area(s) of expertise, from the following list: Hydrographic surveying, tides, currents, geodetic and geospatial measurements, marine transportation, port administration, vessel pilotage, coastal or fishery management, and other oceanographic or marine science areas.

(2) List the geographic region(s) of the country with which you primarily associate your expertise from the following list: Northeast, Mid-Atlantic, Southeast, Gulf of Mexico, Pacific Northwest, California, Hawaii, Pacific Islands, Alaska, Arctic, Great Lakes, Caribbean, National, and/or International.

(3) Describe your leadership or professional experiences that you believe will contribute to the HSRP.

(4) Describe your familiarity and experience with NOAA navigation, observations and positioning data, products, and services.

(5) Generally, describe the breadth and scope of your knowledge of stakeholders, users, or other groups who interact with NOAA and whose views and input you believe you can share with the HSRP.

Information on NOAA and HSRP Member Responsibilities

Pursuant to the Coast and Geodetic Survey Act, as amended (33 U.S.C. 883a et seq.), NOAA is responsible for providing nautical charts and related information for safe navigation. NOAA collects and compiles hydrographic, tidal and current, geodetic, and a variety of other data in order to fulfill this responsibility. The HSRP provides advice on current and emerging oceanographic and marine science technologies relating to operations, research and development, and dissemination of data pertaining to:

(a) Hydrographic surveying;

(b) Shoreline surveying;

(c) Nautical charting;

(d) Water level measurements;

(e) Current measurements;

(f) Geodetic measurements;

(g) Geospatial measurements;

(h) Geomagnetic measurements; and

(i) Other oceanographic/marine related sciences.

The HSRP has fifteen voting members appointed by the NOAA Administrator in accordance with the HSIA (33 U.S.C. 892c). Two NOAA employees, the Directors of the National Geodetic Survey and the Center for Operational Oceanographic Products and Services, and the Co-Directors of the Center for Coastal and Ocean Mapping/Joint Hydrographic Center, serve as non-voting members. The Director, NOAA Office of Coast Survey, serves as the Designated Federal Officer (DFO) along with two Alternate DFOs.

Voting members are individuals who, by reason of knowledge, experience, or training, are especially qualified in one or more disciplines relating to hydrographic surveying, tides, currents, geodetic and geospatial measurements, marine transportation, port administration, vessel pilotage, coastal or fishery management, and other oceanographic or marine science areas as deemed appropriate by the Administrator. Full-time officers or employees of the United States may not be appointed as a voting member. Any voting member of the HSRP who is an applicant for, or beneficiary of (as determined by the NOAA Administrator) any assistance under 33 U.S.C. 892c shall disclose to the HSRP that relationship, and may not vote on any other matter pertaining to that assistance.

Voting members of the HSRP serve a four-year term, except that vacancy appointments are for the remainder of the unexpired term of the vacancy. Members serve at the discretion of the NOAA Administrator and are subject to Government ethics standards. Any individual appointed to a partial or full term may be reappointed for one additional full term. A voting member may serve until his or her successor has taken office. The HSRP selects one voting member to serve as the Chair and another to serve as the Vice Chair. The Vice Chair acts as Chair in the absence or incapacity of the Chair but will not automatically become the Chair if the Chair resigns. Public meetings occur at least twice a year, and at the call of the Chair or upon the request of a majority of the voting members or of the NOAA Administrator. Voting members receive compensation at a rate established by the NOAA Administrator, not to exceed the maximum daily rate payable under section 5376 of title 5, United States Code, when engaged in performing duties for the HSRP during the public meeting. Members are reimbursed for actual and reasonable travel expenses incurred in performing such duties according to the Federal Travel Regulation.

Additional HSRP information and past HSRP public meeting summary reports, agendas, presentations, transcripts, webinars, and other information is available online at:

Membership: https://www.nauticalcharts.noaa.gov/hsrp/panel.html.

Recommendations: https://www.nauticalcharts.noaa.gov/hsrp/recommendations.html.

Public meeting materials: https://www.nauticalcharts.noaa.gov/hsrp/meetings.html.

Individuals Selected for HSRP Membership

Upon selection and agreement to serve on the HSRP, members become Special Government Employees (SGEs) of the United States Government. An SGE, as defined in 18 U.S.C. 202(a), is an officer or employee of an agency who is retained, designated, appointed, or employed to perform temporary duties, with or without compensation, not to exceed 130 days during any period of 365 consecutive days, either on a full time or intermittent basis. After the selection process is complete, applicants selected to serve on the HSRP must complete the following actions before they can be appointed as an HSRP member:

(a) Security Clearance (online Background Security Check process and fingerprinting conducted through NOAA's Office of Security and Office of Human Capital Services); and

(b) Confidential Financial Disclosure Report—SGEs are required to file a Confidential Financial Disclosure Report to avoid involvement in a real or apparent conflict of interest. You may find information on the Confidential Financial Disclosure Report: https://www.oge.gov/Web/oge.nsf/Resources/OGE+Form+450.

Authority: 33 U.S.C. 892 et seq.; 33 U.S.C. 883a et seq.

Benjamin K. Evans,
Rear Admiral (lower half), Director, Office of Coast Survey, National Ocean Service, National Oceanic and Atmospheric Administration.

[FR Doc. 2023-06343 Filed 3-27-23; 8:45 am]

BILLING CODE 3510-JE-P